DEPARTMENT OF ENERGY

National Energy Technology Laboratory; Notice of availability of a Financial Assistance Solicitation

AGENCY: National Energy Technology Laboratory (NETL), Department of Energy (DOE).

ACTION: Notice of availability of a Financial Assistance Solicitation.

SUMMARY: Notice is hereby given of the intent to issue Financial Assistance Solicitation No. DE-PS26-03NT41463 entitled “2003 Climate Change Fuel Cell Buy-Down Program. The objective of the cost-shared program is to simultaneously stimulate commercialization of stationary fuel cell power plants and reduce greenhouse gas emissions through the efficient use of fossil fuels.

DATES: The solicitation will be available on the “Industry Interactive Procurement System” (IIPS) webpage located at http://e-center.doe.gov on or about December 30, 2002. Applicants can obtain access to the solicitation from the address above or through DOE/NETL's web site at http://www.netl.doe.gov/business.

FOR FURTHER INFORMATION CONTACT: Michael Nolan, Contract Specialist, MS I07, U.S. Department of Energy, National Energy Technology Laboratory, P.O. Box 880, 3610 Collins Ferry Road, Morgantown, WV 26507-0880, E-mail Address: michael.nolan@netl.doe.gov, Telephone Number: (304) 285-4149.

SUPPLEMENTARY INFORMATION: With support from the Department of Defense (DoD), DOE, through the National Energy Technology Laboratory, will issue a financial assistance solicitation for grant applications from qualifying applicants proposing demonstrations of stationary fuel-cell powered plants. The Federal support will not exceed the lower of $1,000/kW or one-third of the total project costs which includes unit cost, installation, and one year of operation. The solicitation will be issued on or about December 30, 2002, and applications will be due on or about June 1, 2003. Awards are projected for September 2003 with all project work (including one calendar year of operation and a final report) to be completed by September 30, 2006. Once released, the solicitation will be available for downloading from the IIPS Internet page at http://e-center.doe.gov. At this Internet site you will also be able to register with IIPS, enabling you to submit an application. If you need technical assistance in registering or for any other IIPS function, call the IIPS Help Desk at (800) 683-0751 or E-mail the Help Desk personnel at IIPS_HelpDesk@e-center.doe.gov. The solicitation will only be made available in IIPS, no hard (paper) copies of the solicitation and related documents will be made available. Telephone requests, written requests, E-mail requests, or facsimile requests for a copy of the solicitation package will not be accepted and/or honored. Applications must be prepared and submitted in accordance with the instructions and forms contained in the solicitation. The actual solicitation document will allow for requests for explanation and/or interpretation.

Issued in Morgantown, WV, on December 6, 2002.
Dale A. Siciliano,
Director, Acquisition and Assistance Division.

[FR Doc. 03-384 Filed 1-8-03; 8:45 am]

BILLING CODE 6450-01-P